ENVIRONMENTAL PROTECTION AGENCY

40 CFR Part 93

Determining Conformity of Federal Actions to State or Federal Implementation Plans

CFR Correction

In Title 40 of the Code of Federal Regulations, parts 87 to 95, revised as of July 1, 2011, on page 579, in § 93.118, paragraph (e)(2) is corrected to read as follows:

§ 93.118 Criteria and procedures: Motor vehicle emissions budget.

* * * * *

(e) * * *

* * * * *

(2) If EPA has not declared an implementation plan submission's motor vehicle emissions budget(s) adequate for transportation conformity purposes, the budget(s) shall not be used to satisfy the requirements of this section. Consistency with the previously established motor vehicle emissions budget(s) must be demonstrated. If there are no previously approved implementation plans or implementation plan submissions with adequate motor vehicle emissions budgets, the interim emissions tests required by § 93.119 must be satisfied.

* * * * *

[FR Doc. 2012-15869 Filed 6-26-12; 8:45 am]

BILLING CODE 1505-01-D